FEDERAL COMMUNICATIONS COMMISSION

[FR ID 212656]

Radio Broadcasting Services; AM or FM Proposals To Change the Community of License

AGENCY: Federal Communications Commission.

ACTION: Notice.

DATES: The agency must receive comments on or before June 10, 2024.

ADDRESSES: Federal Communications Commission, 45 L Street NE, Washington, DC 20554.

FOR FURTHER INFORMATION CONTACT: Rolanda F. Smith, 202-418-2054, Rolanda-Faye.Smith@fcc.gov.

SUPPLEMENTARY INFORMATION: The following applicants filed AM or FM proposals to change the community of license: METRO RADIO, INC., WKDV(AM), FAC. ID NO. 8672, FROM: MANASSAS, VA, TO: CHANTILLY, VA, FILE NO. 0000235001; SSR COMMUNICATIONS, INC., KCAY(FM), FAC. ID NO. 203590, FROM: DAMMERON VALLEY, UT, TO: IVINS, UT, FILE NO. 0000237979; COMMUNITY SERVICE BROADCASTING FOUNDATION, INC., KIXK(FM), FAC. ID NO. 769057, FROM: CALIENTE, NV, TO: DAMMERON VALLEY, UT, FILE NO. 0000237978; EDUCATIONAL MEDIA FOUNDATION, WFFF-FM, FAC. ID NO. 25817, FROM: COLUMBIA, MS, TO: BOGUE CHITTO, MS, FILE NO. 0000240434; and METRO BROADCASTERS—TEXAS, INC., KXEZ(FM), FAC. ID NO. 86121, FROM: FARMERSVILLE, TX, TO: PRINCETON, TX, FILE NO. 0000242830. The full text of these applications is available electronically via Licensing and Management System (LMS), https://apps2int.fcc.gov/dataentry/public/tv/publicAppSearch.html.

Federal Communications Commission.
Nazifa Sawez,
Assistant Chief, Audio Division, Media Bureau.

[FR Doc. 2024-07600 Filed 4-9-24; 8:45 am]

BILLING CODE 6712-01-P